DEPARTMENT OF HEALTH AND HUMAN SERVICES

National Institute of Environmental Health Sciences

Office of the Director, Office of Translational Research; Availability of Report From Global Environmental Health Workshop: Request for Public Comments

AGENCY: National Institute of Environmental Health Sciences (NIEHS), National Institutes of Health (NIH), HHS.

ACTION: Request for comments.

SUMMARY: The NIEHS vision is to prevent disease and improve human health by using environmental sciences to understand human biology and human disease. NIEHS has prioritized Global Environmental Health (GEH) as a major initiative of its new strategic plan to implement its vision. To obtain advice and guidance on potential research strategies for global environmental health, the NIEHS held the Global Environmental Health Workshop on January 10, 2007, and now invites public comments on the workshop report.

DATES: The deadline for comments is July 1, 2007.

ADDRESSES: Comments should preferably be submitted electronically at http://www.niehs.nih.gov/external/geh.htm. Comments can also be submitted by e-mail to gehcomments@niehs.nih.gov or by mail to Dr. William J. Martin, NIEHS, P.O. Box 12233, MD B2-07, Research Triangle Park, NC 27709. Courier address: NIEHS, 111 TW Alexander Drive, Room B220, Research Triangle Park, NC 27709.

SUPPLEMENTARY INFORMATION:

Background

The NIEHS vision is to prevent disease and improve human health by using environmental sciences to understand human biology and human disease. To achieve that vision and have the greatest impact on preventing disease and improving human health, the NIEHS focuses on basic science, disease-oriented research, global environmental health, and multidisciplinary training for researchers. The NIEHS has prioritized Global Environmental Health (GEH) as a major initiative of its new strategic plan.

The NIEHS convened a distinguished panel of scientists on January 10, 2007, in San Francisco, California to participate in the NIEHS Global Environmental Health Workshop. The overall goal of this workshop was to provide advice and guidance to NIEHS senior staff on potential research strategies as the institute enters into this new arena of environmental health science. The workshop's objectives were to: (1) Inform NIEHS of opportunities in global environmental health (GEH), (2) evaluate the opportunities in GEH within the context of NIEHS's strategic priorities, (3) determine the current barriers for NIEHS/NIH to effectively conduct GEH research, and (4) determine the process for establishing effective strategic partnerships in GEH. The participants prepared a report that summarizes their discussion at the workshop and includes their recommendations on potential research strategies for GEH. The NIEHS invites public comments on the workshop report and will consider this input as senior staff reviews the recommendations in the workshop report and develops research plans for GEH.

Request for Comments

Comments on the report should be submitted preferably via the conference website or by e-mail or mail [see “ADDRESSES” above]. Persons submitting written comments are asked to include their name and contact information (affiliation, mailing address, telephone, e-mail, and sponsoring organization, if any). Comments should be received by July 1, 2007.

Dated: May 15, 2007.
David A. Schwartz,
Director, National Institute of Environmental Health Sciences and National Toxicology Program.

[FR Doc. E7-10479 Filed 5-30-07; 8:45 am]

BILLING CODE 4140-01-P